INTERNATIONAL TRADE COMMISSION

[Inv. No. 337-TA-590]

In the Matter of Certain Coupler Devices For Power Supply Facilities, Components Thereof, and Products Containing Same; Notice of Investigation

AGENCY: U.S. International Trade Commission.

ACTION: Institution of investigation pursuant to 19 U.S.C. 1337.

SUMMARY: Notice is hereby given that a complaint was filed with the U.S. International Trade Commission on December 13, 2006, under section 337 of the Tariff Act of 1930, as amended, 19 U.S.C. 1337, on behalf of Topower Computer Industrial, Co., Ltd. of Taiwan. A letter supplementing the Complaint was filed on January 9, 2007. The complaint, as supplemented, alleges violations of section 337 in the importation into the United States, the sale for importation, and the sale within the United States after importation of certain coupler devices for power supply facilities, components thereof, and products containing same by reason of infringement of U.S. Patent No. 6,935,902. The complaint further alleges that an industry in the United States exists as required by subsection (a)(2) of section 337.

The complainant requests that the Commission institute an investigation and, after the investigation, issue a permanent general exclusion order and permanent cease and desist orders.

ADDRESSES: The complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Anne Goalwin, Esq., Office of Unfair Import Investigations, U.S. International Trade Commission, telephone (202) 205-2574.

Authority: The authority for institution of this investigation is contained in section 337 of the Tariff Act of 1930, as amended, and in section 210.10 of the Commission's Rules of Practice and Procedure, 19 CFR 210.10 (2006).

Scope of Investigation: Having considered the complaint, the U.S. International Trade Commission, on January 10, 2007, ordered that—

(1) Pursuant to subsection (b) of section 337 of the Tariff Act of 1930, as amended, an investigation be instituted to determine whether there is a violation of subsection (a)(1)(B) of section 337 in the importation into the United States, the sale for importation, or the sale within the United States after importation of certain coupler devices for power supply facilities, components thereof, and products containing same by reason of infringement of one or more of claims 1-14 of U.S. Patent No. 6,935,902, and whether an industry in the United States exists as required by subsection (a)(2) of section 337;

(2) For the purpose of the investigation so instituted, the following are hereby named as parties upon which this notice of investigation shall be served:

(a) The complainant is—

Topower Computer Industrial Co., Ltd., 7F, No. 7, Lane 235, Pao Chiao Road, Xindian City, Taipei Hsien, Taiwan.

(b) The respondents are the following entities alleged to be in violation of section 337, and are the parties upon which the complaint is to be served:

Xion/Axpertec Inc., 201 Lemon Creek Drive No. B, Walnut, CA 91789.

Thermaltake Technology, Inc., USA, 525 Parriott Place, City of Industry, CA 91745.

Thermaltake Technology Co., Ltd., Taiwan, 8F., No. 27, Lane 155, Sec. 3, Peishen Rd., Saen Keng, Hsiang, Taipei Hsien, Taiwan.

Aspire/Apevia Int'l Corp., 21490 Ferrero Pkwy., City of Industry, CA 91789.

MGE Company, USA, 18235 Valley Boulevard, City of Industry, CA 91744.

Raidcom Technology Inc., Corporation, 15339 E. Don Julian Rd., City of Industry, CA 91745.

Codegen Technology Co., Ltd., 581 Yorbita Road, City of Industry, CA 91748.

Leadman Electronic Co., Ltd., 891 S. Azusa Ave. B-6, City of Industry, CA 91748.

Hipro Electronics Co., Ltd., 19937 Harrison Avenue, City of Industry, CA 91789.

Cooler Master Inc., USA, 1951 S. Parco Ave. Unit A, Ontario, CA 91761.

Cooler Master Co., Ltd., Taiwan, 9F, No. 782, Chung-Cheng Rd., Chung-Ho City, Taipei Hsien, Taiwan.

Broadway Com Corp., 18715 E. Harrison Avenue, City of Industry, CA 91789.

JPAC Computer, Inc., 14422 Valley Blvd., City of Industry, CA 91746.

Silent Power Electronics, GmbH, Mühlenstr. 123, 41352 Korschenbroich, Germany.

Linkworld Electronics Corporation, 670 Endeavor Circle, Brea, CA 92821.

Acbel Polytech Inc., 251 Dominion Dr., Suite 103, Morrisville, NC 27560.

HEC Group, Compucase Enterprise, USA, 16720 Chestnut Street, Unit C, City of Industry, CA 91748.

HEC Group, Compucase Enterprise, Taiwan, No. 225, Lane 54, An-Ho Rd, Sec. 2, Tainan, Taiwan.

Atrix Inc., 9680 Flair Drive, El Monte, CA 91731.

ASYS, 19941 Harrison Avenue, City of Industry, CA 91789.

Logisys Computer Inc., 1962 West Holt Avenue, Pomona, CA 91768.

Best Buy Enterprise Services, Inc., B6 7601 Penn Avenue, South Richfield, MN 55423.

Sunbeam Company, 15339 Don Julian Rd., City of Industry, CA 91745.

Sirtec International Co., Ltd., 2430 N. Glassell St., #F, Orange, CA 92865.

Enhance Electronics, 13100 Alondra Boulevard, Unit 106, Cerritos, CA 90701.

Super Flower Computer Inc., 7 Fl. No. 649-1, Chung-Cheng Rd., Hsinchuang City, Taipei Hsien, Taiwan.

Taiwan Youngyear Electronics Co., Ltd., 113, Lin Sen Rd., Taoyuan, Taiwan.

Sun Pro Electronics Co., Ltd., No. 46, Luwei Village, Sanzing Industrial Area, Quingxi Town, Dongguan City, Guangdon Province, China.

Unitek Electronics Co., Ltd., HuiMingSheng Industrial Zone, FuYong Town, BaoAn, Shen Zhen, China.

Shenzhen Chi Yuan Industrial Co., Ltd., Hang-Jia Industrial Park Xue-Xiang Village, Bu-Ji Town Shenzhen Guangdong 518129, China.

(c) The Commission investigative attorney, party to this investigation, is Anne Goalwin, Esq., Office of Unfair Import Investigations, U.S. International Trade Commission, 500 E Street, SW., Room 401-R, Washington, DC 20436; and

(3) For the investigation so instituted, the Honorable Robert L. Barton, Jr. is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of a limited exclusion order or cease and desist order or both directed against the respondent.

By order of the Commission.
Issued: January 11, 2007.
Marilyn R. Abbott,
Secretary to the Commission.

[FR Doc. E7-670 Filed 1-18-07; 8:45 am]

BILLING CODE 7020-02-P